DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 11, 2000.

Interested persons are invited to submit written comments regarding the subject matter of the investigations to the Director, Division of Trade Adjustment Assistance, at the address shown below, not later than December 11, 2000.

The petitions filed in this case are available for inspection at the Office of the Director, Division of Trade Adjustment Assistance, Employment and Training Administration, U.S. Department of Labor, Room C-5311, 200 Constitution Avenue, NW., Washington, DC 20210.

Signed at Washington, DC this 6th day of November, 2000.
Edward A. Tomchick,
Director, Division of Trade Adjustment Assistance.

Appendix
[Petitions Instituted On 11/06/2000]
TA-W | Subject firm (petitioners) | Location | Date of petition | Product(s)
38,275 | American Garment Finisher (Co.) | El Paso, TX | 10/30/00 | Garment Finishing and Laundry.
38,276 | Coach Leather (Wkrs) | Medley, FL | 10/24/00 | Sew Leather Goods.
38,277 | Camp International (UNITE) | Jackson, MI | 10/23/00 | Specialty Bras and Athletic Braces.
38,278 | Brezi Originals (Wkrs) | New York, NY | 10/23/00 | Dresses.
38,279 | Elmer's Products, Inc. (IAM) | Bainbridge, NY | 10/23/00 | Plastic Bottles, Woodfillers, Caulk.
38,280 | Snyder Walls Industries (Co.) | Snyder, TX | 10/25/00 | Pants.
38,281 | Taylor White, Five River (Wkrs) | Greenville, TN | 10/23/00 | TV's and Components.
38,282 | Weeks Textile Co. (Co.) | Quitman, GA | 10/20/00 | Comforters, Spreads, Window Treatments.
38,283 | Fernbrook #2 (UNITE) | Palmerton, PA | 10/23/00 | Ladies' Sportswear.
38,284 | NRB Industries (Co.) | Radford, VA | 10/24/00 | Broadwoven Fabrics.
38,285 | Fairfield Manufacturing (Wkrs) | Lafayette, IN | 10/16/00 | Torque Hub.
38,286 | American Bag Corp. (Wkrs) | Stearns, KY | 10/28/00 | Automotive Airbag Restraints.
38,287 | Poland Spring Bottling (UFCW) | Poland Spring, ME | 10/18/00 | Bottled Spring Water.
38,288 | Middleby Marshall, Inc. (Wkrs) | Fuquary Varaina, NC | 10/23/00 | Fryers, Fryer Pots, Steamers.
38,289 | Grant Western Lumber Co. (Wkrs) | John Day, OR | 10/26/00 | Lumber and Chips.
38,290 | Sara Campbell Ltd (Co.) | Boston, MA | 10/20/00 | Ladies' Dresses and Sportswear.
38,291 | Hager Hinge Companies (Wkrs) | Montgomery, AL | 10/24/00 | Door Hinges.
38,292 | Carolina Mills, Inc. (Co.) | St. Pauls, NC | 10/21/00 | Textile Yarns.
38,293 | Dresser Rand (Wkrs) | Painted Post, NY | 10/23/00 | Reciprocating, Steam & Turbo Products.
38,294 | Cyprus Thompson Creek (Co.) | Englewood, CO | 10/25/00 | Molybdenum Sulfide Concentrates.
38,295 | Bobst Group (Wkrs) | Roseland, NJ | 10/10/00 | Corrugated Board.

[FR Doc. 00-30621 Filed 11-30-00; 8:45 am]

BILLING CODE 4510-30-M